DEPARTMENT OF HEALTH AND HUMAN SERVICES

Centers for Disease Control and Prevention

National Center for Health Statistics (NCHS), Classifications and Public Health Data Standards Staff, Announces the Following Meeting

Name: ICD-9-CM Coordination and Maintenance Committee meeting.

Time and Date: 8:30 a.m.-4:30 p.m., March 11-12, 2009.

Place: Centers for Medicare and Medicaid Services (CMS) Auditorium, 7500 Security Boulevard, Baltimore, Maryland.

Status: Open to the public.

Purpose: The ICD-9-CM Coordination and Maintenance (C&M) Committee will hold its first meeting of the 2009 calendar year cycle on Wednesday and Thursday March 11-12, 2009. The C&M meeting is a public forum for the presentation of proposed modifications to the International Classification of Diseases, Ninth-Revision, Clinical Modification.

Matters to be Discussed: Tentative agenda items include: Body Mass Index (BMI) 50 and over Cognitive symptoms related to Traumatic Brain Injury (TBI) and other eurological conditions, E. coli expansion fecal incontinence 5th digits for epilepsy codes, Heart failure, Mullerian anomalies personal history of Vulvar Intraepithelial Neoplasia (VIN) and Vaginal Intraepithelial Neoplasia (VAIN)Addenda (diagnoses), Injection of chemotherapeutic agent Intravascular optical coherence tomography (OCT), Thoracoscopic procedures, Virtual histology intravascular ultrasound (VH-IVUS), Addenda (procedures), and ICD-10/MS-DRG update.

For Further Information Contact: Amy Blum, Medical Systems Specialist, Classifications and Public Health Data Standards Staff, NCHS, 3311 Toledo Road, Room 2402, Hyattsville, Maryland 20782, e-mail alb8@cdc.gov, telephone 301-458-4106 (diagnosis), Mady Hue, Health Insurance Specialist, Division of Acute Care, CMS, 7500 Security Blvd., Baltimore, Maryland 21244, e-mail marilu.hue@cms.hhs.gov, telephone 410-786-4510 (procedures).

Notice: Because of increased security requirements CMS has instituted stringent procedures for entrance into the building by non-government employees. Persons without a government I.D. will need to show an official form of picture I.D., (such as a drivers license), and sign-in at the security desk upon entering the building.

Those who wish to attend a specific ICD-9-CM C&M meeting in the CMS auditorium must submit their name and organization for addition to the meeting visitor list. Those wishing to attend the March 11-12, 2009 meeting must submit their name and organization by March 5, 2009 for inclusion on the visitor list. This visitor list will be maintained at the front desk of the CMS building and used by the guards to admit visitors to the meeting. Those who attended previous ICD-9-CM C&M meetings will no longer be automatically added to the visitor list. You must request inclusion of your name prior to each meeting you attend.

Register to attend the meeting on-line at: http://www.cms.hhs.gov/apps/events/.

Notice: This is a public meeting. However, because of fire code requirements, should the number of attendants meet the capacity of the room, the meeting will be closed.

The Director, Management Analysis and Services Office, has been delegated the authority to sign Federal Register notices pertaining to announcements of meetings and other committee management activities, for both CDC and the Agency for Toxic Substances and Disease Registry.

Dated: February 13, 2009.
Elaine L. Baker,
Director, Management Analysis and Services Office, Centers for Disease Control and Prevention (CDC).

[FR Doc. E9-4204 Filed 2-26-09; 8:45 am]

BILLING CODE 4163-18-P